DEPARTMENT OF AGRICULTURE

Forest Service

Shawnee National Forest, Illinois; Cretaceous Hills Ecological Restoration

AGENCY: Forest Service, USDA.

ACTION: Notice of intent to prepare an environmental impact statement.

SUMMARY: The USDA Forest Service Shawnee National Forest (Forest) intends to prepare an environmental impact statement to disclose the environmental consequences of an ecological restoration project. In the environmental impact statement, the USDA Forest Service will address the potential environmental effects of the restoration of an oak-hickory hardwood forest-type and the increase of wildlife habitat diversity through the removal or thinning of non-native pine trees and small shade-tolerant hardwood trees from about 3,200 acres, the application of prescribed fire on about 15,100 acres, treatment of invasive species, maintenance of barrens habitats, development of vernal ponds, and transportation system maintenance, construction, or reconstruction.

The Cretaceous Hills Ecological Restoration Project (Hills Project) is located in the Bay Creek Ditch, Barren Creek and Sister Islands-Ohio River watersheds between the communities of Metropolis and Bay City, in southern Pope and eastern Massac Counties, Illinois. The 26,102 acres in the project areas include about 15,130 acres of National Forest System land and 10,972 acres of state and private land. All activities are proposed on National Forest System land.

DATES: Comments concerning the scope of the analysis must be received by November 10, 2014 in order to be most useful in the development of the environmental impact statement. The draft environmental impact statement is expected February, 2015 and the final environmental impact statement is expected September, 2015.

ADDRESSES: Comments may be submitted on the Hills Project Web page: http://tinyurl.com/Cretaceous-Hills-Shawnee-NF. Written comments may be sent to: Shawnee National Forest, Attn: Hills Project, 602 N. 1st Street, Vienna, IL 62995. Comments may also be sent via facsimile to (618) 658-1300, with “Hills Project” on the subject line.

FOR FURTHER INFORMATION CONTACT: Amanda Kunzmann at 602 N. 1st Street, Vienna, (618) 658-2111, or akunzmann@fs.fed.us.

Individuals who use telecommunication devices for the deaf (TDD) may call the Federal Information Relay Service (FIRS) at 1-800-877-8339 between 8 a.m. and 8 p.m., Eastern Time, Monday through Friday.

SUPPLEMENTARY INFORMATION:

Purpose of and Need for Action

The purpose of the Hills Project is to implement land management activities consistent with the Forest Land and Resource Management Plan (Plan) and bring the Forest closer to the desired condition stated therein. The Forest Plan outlines goals, objectives and desired conditions for Forest resources. The Hills Project Area encompasses three Forest Plan management-prescription areas: Even-Aged Hardwood Forest (EH), Mature Hardwood Forest (MH) and Natural Area (NA).

The EH management prescription emphasizes maintenance of the oak-hickory forest-type; ecological restoration to native hardwood of areas planted with non-native pine; wildlife habitat associated with a mix of hardwoods, pine and openland; and the production of high-quality hardwoods in a roaded-natural recreational setting. The desired condition relevant to this project is for a natural-appearing landscape with stands of hardwood trees in various age and size classes. The oak-hickory community and associated understories dominate. The land supports a variety of wildlife, ranging from species that utilize early-successional stages to those requiring mature-stand characteristics. Some areas are actively managed for forest-interior species. Roads provide access for recreation, administration and management purposes, including transportation of forest products (Forest Plan, page 59).

The MH management prescription provides for recreation, wildlife and soil and water protection, with motorized and non-motorized recreation occurring in a roaded-natural or semi-primitive setting. The prescription provides habitat for wildlife requiring mature-hardwood forest conditions. The desired condition relevant to this project is a landscape of natural ecosystems. Usually dominant, mature, hardwood trees and associated vegetation are interspersed with openland ecosystems; some areas are actively managed for forest-interior species (Forest Plan, page 68).

The NA management prescription provides for the preservation, protection and/or enhancement of the unique natural values found in many natural areas on the Forest. The desired future condition relevant to this project is that the four designated natural areas included in the project, each biologically and geologically unique, contain a variety of wildlife species and diverse vegetation in a natural-appearing condition.

The forest in the EH management area is about 30 percent non-native pine that was planted in the 1930's and 1940's to control erosion on depleted farmland. Forest Plan management goals include the conversion of non-native pine plantations to native hardwoods, emphasizing the removal of pine within or adjacent to natural areas; and the restoration and maintenance of the oak-hickory forest-type for biological diversity and wildlife habitat, utilizing landscape-level prescribed burning, timber harvesting and timber-stand improvement to help create and/or maintain the necessary ecological conditions for regeneration and maintenance (Forest Plan, pages 21-22). The area has also been affected by two major ice storms that damaged many trees, increasing fuel-loading throughout.

The forest in the MH management area was also damaged by the ice storms, with a heavy hazardous fuel load. This area includes the Burke Branch Inventoried Roadless Area, a forest-interior habitat as described in the Forest Plan (page 43). Managed under the NA management prescription, designated natural areas in the project area include Robnett Barrens Ecological Area, Dog Creek Barrens Ecological Area and Dean Cemetery East Barrens Ecological Area, as well as the Burke Branch Research Natural Area Ecological Area, with mesic barrens, mesic floodplain forest and dry mesic upland forest. Among the Forest Plan goals are the restoration and maintenance of barrens through active management and the management of forest-interior habitats for large blocks of oak-hickory forests, with burning conducted frequently to promote oak-hickory generation and to control competition from shade-tolerant and invasive species, and the application of herbicide to control invasive species (Forest Plan, pages 21, 26 and 43).

Proposed Action

The following actions have been identified to address the needs described above. (1) To meet the need to convert about 3,200 acres of non-native pine plantations to the oak-hickory hardwood forest-type, conduct commercial harvest through overstory removal of remnant pine trees on about 490 acres and shelterwood with reserves and thinning on about 2,600 acres. Treatments include two entries for site-preparation for natural regeneration on about 3,200 acres and the application of prescribed fire. Herbicides are proposed for site preparation and control of shade-tolerant species. (2) To reduce the threat of wildfire from the hazardous fuel load in the project area, prescribed fire will be applied to about 15,100 acres throughout the project area. This will not only reduce the fuel load in the area, but also will aid in the restoration and maintenance of designated natural areas and forest-interior habitat. (3) To restore and enhance the barrens natural areas, herbicide treatments and prescribed fire will be applied where necessary, small trees and shrubs will be removed, and non-native pines will be clearcut from about 90 acres within and adjacent to natural areas. (4) To maintain forest-interior habitat to increase wildlife diversity, herbicide treatments and prescribed fire will be applied where necessary. (5) To create additional habitat diversity, twenty small vernal pools will be constructed in the project area. (6) To provide management and possible future recreational access to the project areas, roads will be maintained, constructed or reconstructed.

Responsible Official

The responsible official is the Hidden Springs-Mississippi Bluffs District Ranger.

Nature of Decision To Be Made

Given the purpose and need for the proposal, the responsible official will review the analyses of the proposed action and the alternatives in order to make the following decisions: Whether or not to release shade-intolerant oak, hickory and other hardwoods through removal of overstory pine; whether or not to use site-preparation tools to restore the native, hardwood-forest community; whether or not to utilize a commercial timber sale to remove the pine trees; whether or not to manage the forest-interior habitat and designated natural areas in the project areas; whether or not to apply prescribed fire or herbicides; whether or not to construct vernal ponds; and whether or not to manage the project area transportation system with maintenance, construction, or reconstruction.

Scoping Process

This notice of intent initiates the scoping process that will guide development of the environmental impact statement for a project implementing the Forest Plan; it is subject to the requirements of 36 CFR part 218, Subparts A and B—Project-Level Pre-decisional Admnistrative Review Process. The initiation of the scoping period also opens the “designated opportunity for public comment” on this proposal, under 36 CFR part 218.5(a). This designated opportunity will conclude at the end of the comment period for the draft environmental impact statement.

It is important that reviewers provide their comments at such times and in such a manner that they are useful to the agency's preparation of the environmental impact statement. Commenters who desire eligibility to object during the pre-decisional administrative review process must submit comments that meet the requirements of 36 CFR part 218.25. To be most helpful to the development of the environmental impact statement, comments should be provided prior to the close of the scoping period and should clearly articulate the reviewer's concerns. Scoping meetings will be scheduled with interested parties and organizations following publication of this notice.

Comments received in response to this solicitation, including names and addresses of those who comment, will be part of the public record for this proposed action. Comments submitted anonymously will be accepted and considered; however, anonymous comments will not provide the agency with the ability to provide the respondent with subsequent environmental documents.

Dated: October 6, 2014.
Hurston A. Nicholas,
Forest Supervisor.

[FR Doc. 2014-24229 Filed 10-9-14; 8:45 am]

BILLING CODE 3411-15-P